DEPARTMENT OF TRANSPORTATION

Federal Railroad Administration

Petition for Waiver of Compliance

In accordance with Part 211 of Title 49 Code of Federal Regulations (CFR), notice is hereby given that the Federal Railroad Administration (FRA) received a request for a waiver of compliance from certain requirements of its safety regulations. The individual petition is described below including, the party seeking relief, the regulatory provisions involved, the nature of the relief being requested, and the petitioner's arguments in favor of relief.

National Railroad Passenger Corporation

[Docket Number FRA-2001-10596]

The National Railroad Passenger Corporation (Amtrak) seeks a permanent waiver of compliance from certain provisions of the Railroad Power Brake and Drawbars regulations, 49 CFR 229, regarding the required periodic tests of locomotive brake equipment. Specifically, Amtrak requests that the electronic brake equipment used on the new HHP8 electric locomotives be subjected to the same provisions as outlined in a waiver (H-95-3) granted to New York Air Brake Company (NYAB) for their CCB brake equipment, which extended the time requirements for cleaning, repairing and testing of brake components listed in § 229.27(a)(2) and § 229.29(a), to a period not to exceed five years or 1,840 days.

Amtrak claims that the HHP8 electronic brake equipment is similar in arrangement and function to the NYAB CCB system. It also incorporates a number of the same components used in the CCB system. Amtrak believes that the five-year interval is justified on the basis of the duty cycle and FMECA performed for the Acela brake system, of which this system is a direct variant set up for double end control and includes the locomotive independent brake and quick release functions. This five-year maintenance interval is also currently outlined in the maintenance plan for the Acela Train Sets under 49 CFR Part 238, Tier II requirements. Further, the HHP8 locomotive is equipped with an air quality (dryers and filters) system that meets current industry standards. Amtrak would like to maintain the HHP8 locomotive brake equipment with the same conditions and time intervals as specified in waiver H-95-3, which has been re-numbered and re-issued as waiver number FRA-2000-7367.

Interested parties are invited to participate in these proceedings by submitting written views, data, or comments. FRA does not anticipate scheduling a public hearing in connection with these proceedings since the facts do not appear to warrant a hearing. If any interested party desires an opportunity for oral comment, they should notify FRA in writing, before the end of the comment period and specify the basis for their request.

All communications concerning these proceedings should identify the appropriate docket number (e.g., Waiver Petition Docket Number FRA-2001-10596) and must be submitted to the Docket Clerk, DOT Central Docket Management Facility, Room PL-401, Washington, D.C. 20590-0001. Communications received within 45 days of the date of this notice will be considered by FRA before final action is taken. Comments received after that date will be considered as far as practicable. All written communications concerning these proceedings are available for examination during regular business hours (9:00 a.m.—5:00 p.m.) at the above facility. All documents in the public docket are also available for inspection and copying on the Internet at the docket facility's web site at http://dms.dot.gov.

Issued in Washington, DC. on March 26, 2002.
Grady C. Cothen, Jr.,
Deputy Associate Administrator for Safety Standards and Program Development.

[FR Doc. 02-7820 Filed 4-1-02; 8:45 am]

BILLING CODE 4910-06-P